DEPARTMENT OF TRANSPORTATION

Federal Highway Administration

Notice of Final Federal Agency Actions on Proposed Highway in Minnesota

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to a proposed highway project in and around Paynesville, Minnesota, which includes improvements to Trunk Highway (TH) 23 from the intersection with County State Aid Highway (CSAH) 6 in Kandiyohi County to 0.4 mile southwest of CSAH 123 in Stearns County. Those actions grant approvals for the project.

DATES: By this notice, the FHWA is advising the public of final agency actions subject to 23 U.S.C. 139(1)(1). A claim seeking judicial review of the Federal agency actions of the highway project will be barred unless the claim is filed on or before 180 days from the date of this notice. If the Federal law that authorizes judicial review of a claim provides a time period of less than 180 days for filing such claim, then that shorter time period still applies.

FOR FURTHER INFORMATION CONTACT: For FHWA: Mr. Thomas Sorel, Division Administrator, Federal Highway Administration, Galtier Plaza, Suite 500, 380 Jackson Street, St. Paul, Minnesota 55101, Telephone (651) 291-6100, e-mail: Thomas.sorel@fhwa.dot.gov. The Minnesota Division Office's normal business hours are 7:30 a.m. to 4 p.m. (central time). For the Minnesota Department of Transportation (Mn/DOT): Mr. Lowell Flaten, Project Manager, District 8, 2505 Transportation Road, P.O. Box 768, Willmar, Minnesota 56201-0768, Telephone (320) 231-5195, (800) 627-3529 TTY, e-mail: Lowell.flaten@dot.state.mn.us.

SUPPLEMENTARY INFORMATION: Notice is hereby given that the FHWA and other Federal agencies have taken final agency actions by issuing approvals for the following highway project in Minnesota: TH 23 in and around Paynesville from CSAH 6 in Kandiyohi County to near CSAH 123 in Stearns County. The project will be a 7.7-mile long, four-lane divided highway using a new alignment that meets the design standards for a rural expressway with a 70-mph design speed and controlled access. The actions by the Federal agencies, and the laws under which such actions were taken, are described in the Final Environmental Impact Statement (FEIS)/Final Section 4(f) Evaluation for the project, approved on January 30, 2007; in the FHWA Record of Decision (ROD) issued on February 28, 2008; and in other documents in the FHWA project files. The EElS, ROD and other project records are available by contacting the FHWA or Mn/DOT at the addresses provided above. This notice applies to all Federal agency decisions as of the issuance date of this notice and all laws under which such actions were taken, including but not limited to:

1. General: National Environmental Policy Act (NEPA) [42 U.S.C. 4321-4351]; Federal-Aid Highway Act [23 U.S.C. 109].

2. Land: Section 4(f) of the Department of Transportation Act of 1966 [49 U.S.C. 303]; Landscaping and Scenic Enhancement (Wildflowers) [23 U.S.C. 319].

3. Wildlife: Endangered Species Act [16 U.S.C. 1531-1544 and Section 1536]; Fish and Wildlife Coordination Act [16 U.S.C. 661-667(d)]; Migratory Bird Treaty Act [16 U.S.C. 703-712].

4. Historic and Cultural Resources: Section 106 of the National Historic Preservation Act of 1966, as amended [16 U.S.C. 470(f) et seq.]; Archaeological and Historic Preservation Act [16 U.S.C. 469-469(c)].

5. Social and Economic: Civil Rights Act of 1964 [42 U.S.C. 2000(d)-2000(d) (1)]; Farmland Protection Policy Act (FPPA) [7 U.S.C. 4201-4209].

6. Safe Drinking Water Act (SDWA) [42 U.S.C. 300(f)-300(j)(6)]; Flood Disaster Protection Act [42 U.S.C. 4001-4128].

7. Executive Orders: E.O. 11990, Protection of Wetlands; E.O. 11988, Floodplain Management; E.O. 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species.

(Catalog of Federal Domestic Assistance Program Number 20.205, Highway Planning and Construction. The regulations implementing Executive Order 12372 regarding intergovernmental consultation on Federal programs and activities apply to this program.)

Authority: 23 U.S.C. 139(1)(1).

Issued on: March 24, 2008.
Robin L. Schroeder,
Assistant Division Administrator, Federal Highway Administration, St. Paul, Minnesota.

[FR Doc. E8-6354 Filed 3-28-08; 8:45 am]

BILLING CODE 4910-22-M